DEPARTMENT OF TRANSPORTATION

Surface Transportation Board

[STB Finance Docket No. 33877]

Illinois Central Railroad Company—Construction and Operation Exemption—in East Baton Rouge Parish, LA

AGENCY: Surface Transportation Board.

ACTION: Notice of exemption.

SUMMARY: Under 49 U.S.C. 10502, the Board conditionally exempts from the prior approval requirements of 49 U.S.C. 10901 the construction and operation by Illinois Central Railroad Company of a line of railroad, approximately 3.2 miles in length, in East Baton Rouge Parish, LA.¹

¹ On July 16, 2001, IC filed a petition under 49 U.S.C. 10901(d) to require KCS to allow IC's proposed construction to cross KCS's track. The proceeding is docketed as STB Finance Docket No. 33877 (Sub-No. 1), Illinois Central Railroad Company—Petition for Crossing Authority—In East Baton Rouge Parish, LA. By decision served in that proceeding today, KCS's motion to dismiss the crossing petition has been denied and a procedural schedule has been established to develop the record in that proceeding.

DATES: The exemption will not become effective until the environmental review process is completed. Once that process is completed, the Board will issue a further decision addressing the environmental impacts, and if appropriate, make the exemption effective at that time, thereby allowing construction to begin. Petitions to reopen must be filed by November 14, 2001.

ADDRESSES: Send pleadings, referring to STB Finance Docket No. 33877, to: (1) Surface Transportation Board, Office of the Secretary, Case Control Unit, 1925 K Street, NW, Washington, DC 20423-0001; and (2) Myles L. Tobin, 455 North Cityfront Plaza Drive, Chicago, IL 60601-5317 and William C. Sippel and Thomas J. Litwiler, Two Prudential Plaza, Suite 3125, 180 North Stetson Ave., Chicago, IL 60601-6721.

FOR FURTHER INFORMATION CONTACT: Joseph H. Dettmar (202) 565-1600 [TDD for the hearing impaired: 1-800-877-8339.]

SUPPLEMENTARY INFORMATION: Additional information is contained in the Board's decision. To purchase a copy of the full decision, write to, call, or pick up in person from: Da 2 Da Legal, 1925 K Street NW, Suite 405, Washington, DC 20006. Telephone: (202) 293-7776. [Assistance for the hearing impaired is available through TDD services 1-800-877-8339.]

Board decisions and notices are available on our Web site at www.stb.dot.gov.

Decided: October 18, 2001.
By the Board, Chairman Morgan, Vice Chairman Clyburn, and Commissioner Burkes.
Vernon A. Williams,
Secretary.

[FR Doc. 01-26909 Filed 10-24-01; 8:45 am]

BILLING CODE 4915-00-P